INTERNATIONAL TRADE COMMISSION

Filing Procedures

AGENCY: International Trade Commission.

ACTION: Notice of proposed Handbook on Filing Procedures.

SUMMARY: The United States International Trade Commission (“Commission”) proposes to issue a Handbook on Filing Procedures to replace its Handbook on Electronic Filing Procedures. The revision is necessary to implement a new Commission requirement for electronic filing of most documents with the agency. The intended effects of the proposed change are to increase efficiency in processing documents filed with the Commission, reduce Commission expenditures, and conform agency processes to federal government initiatives.

DATES: To be assured of consideration, written comments must be received by 5:15 p.m. on August 5, 2011.

ADDRESSES: You may submit comments, identified by docket number MISC-036, by any of the following methods:

—Agency Web Site: https://edis.usitc.gov. Follow the instructions for submitting comments on the Web site.

—Mail: For paper submission. U.S. International Trade Commission, 500 E Street, SW., Room 112A, Washington, DC 20436.

—Hand Delivery/Courier: U.S. International Trade Commission, 500 E Street, SW., Room 112A, Washington, DC 20436, from the hours of 8:45 a.m. to 5:15 p.m.

Instructions: All submissions received must include the agency name and docket number (MISC-036), along with a cover letter stating the nature of the commenter's interest in the proposed rulemaking. All comments received will be posted without change to https://edis.usitc.gov, including any personal information provided. For paper copies, a signed original and 14 copies of each set of comments should be submitted to James R. Holbein, Secretary, U.S. International Trade Commission, 500 E Street, SW., Room 112A, Washington, DC 20436. Docket: For access to the docket to read background documents or comments received, go to https://edis.usitc.gov and/or the U.S. International Trade Commission, 500 E Street, SW., Room 112A, Washington, DC 20436.

FOR FURTHER INFORMATION CONTACT: James R. Holbein, Secretary, telephone (202) 205-2000 or Gracemary R. Roth-Roffy, telephone (202) 205-3117, Office of the General Counsel, United States International Trade Commission. Hearing-impaired individuals are advised that information on this matter can be obtained by contacting the Commission's TDD terminal at 202-205-1810. General information concerning the Commission may also be obtained by accessing its Internet server at http://www.usitc.gov.

SUPPLEMENTARY INFORMATION: The Commission proposes to require that most filings with the agency be made by electronic means. The Commission's Electronic Document Information System (EDIS) already accepts electronic filing of certain documents, and will be the mechanism by which investigation participants electronically file their documents in the future. Persons seeking to file documents will be required to comply with the revised Handbook on Filing Procedures, which will supersede the Commission's current Handbook on Electronic Filing Procedures. The Commission plans to seek public comment concerning proposed related amendments to its Rules of Practice and Procedure in a separate notice.

Although the Commission intends to require electronic filing through EDIS of most documents, that requirement will be modified for certain documents. Notably, documents such as briefs filed in import injury proceedings will need to be filed electronically and in paper form on the same business day. Certain other documents, such as petitions for review in intellectual property-related import investigations, will need to be filed electronically, and in paper form by noon the next business day.

The agency anticipates that some documents will not be electronically filed through EDIS. Parties filing petitions in import injury proceedings, and complaints and motions for temporary relief in intellectual property-related import investigations will continue to file those documents in paper form, but will be required to file the exhibits, attachments thereto in electronic form on portable media approved by the Secretary. Materials intended to be used at certain conferences and hearings will not need to be filed electronically.

In addition, the Secretary will have the authority to allow for modifications of the requirements for the filing of documents specified in the rules and the Handbook. In particular, the Commission understands that some investigation participants may encounter difficulties in filing electronically. For example, some participants may not have full access to the internet. A person or firm that believes it will have difficulty filing electronically will have the opportunity to file a request for an exemption from the normal filing requirement. The Secretary will grant such requests if the submitter of the document provides a reasonable explanation for the request.

The Commission seeks public comment on the proposed Handbook on Filing Procedures. The agency will consider these comments in preparing to issue a final version of the Handbook.

I. Introduction

A. This Handbook provides instructions for persons filing documents with the United States International Trade Commission (Commission).

B. In any conflict between the Commission's Rules of Practice and Procedure (rules) and this Handbook, the rules shall govern. This Handbook is designed to be read in conjunction with the rules. This Handbook does not alter or waive any provisions in the rules governing the filing of documents with entities and/or persons other than the Commission, including but not limited to the United States Secretary, NAFTA Secretariat.

C. If you plan to file a document with the Commission, you must comply with the relevant provisions of the rules governing such filing. The Commission generally provides for two types of filing, electronic filing and filing in paper form. The general rule set out in § 201.8 of the rules requires electronic filing, but special requirements apply to certain types of documents, and the Secretary is authorized to make exceptions and modifications to the general rule. Certain exceptions and modifications are set out below. The Commission generally does not permit filing by means other than paper filing or electronic filing. Thus, for example, unless provided for by the rules, filing by facsimile and by electronic mail (i.e., sending a document to a Commission electronic mail address) is not permitted.

II. Filing Procedures

A. Definitions and Instructions

(1) “EFP” means the Commission's Electronic Filing Procedures.

(2) “Secretary” means the Secretary to the Commission (500 E Street, SW., Room 112A, Washington, DC 20436, telephone 202 205 2000). The EFP are administered by the Secretary and any questions about EFP should be directed to the Secretary.

(3) “Business days” refers to the days that the Commission is open. “Business hours” refers to the hours that the Commission is open on a given business day (i.e., from 8:45 a.m. to 5:15 p.m., Washington, DC local time, Monday through Friday, excepting Saturdays, Sundays, Federal legal holidays and other days and times when the Commission is closed for other reasons).

(4) “EDIS” refers to the Commission's Electronic Document Information System, a web-based software system which will receive and store electronic transmissions of filing information and filed documents.

(5) The “EDIS Web site” refers to the Commission's Web site which provides access to EDIS via the World Wide Web at https://edis.usitc.gov.

(6) “Document” refers to the filing information and associated files that all filers must provide pursuant to § 201.8 of the rules.

(7) “Cover sheet” refers to the EDIS cover sheet that all filers must complete when making a paper filing pursuant to § 201.8(g) of the rules. EDIS cover sheets are generated online at the EDIS Web site and must contain all necessary metadata about a filing.

(8) “Electronic receipt” means that an electronic transmission of a document to EDIS via the EDIS Web site has been successfully completed in its entirety. As discussed below, the electronic transmission and receipt of a document does not mean that the document has been accepted for filing.

(9) “Electronic filing” means the electronic transmission of a document and the Secretary's acceptance of the document for filing.

(10) “Registered user” means a person that registers for an account within EDIS via the EDIS Web site, enabling their ability to file documents with the Commission.

(11) “E-mail address of record” means the electronic mail address of a registered user which he or she has provided to the Secretary.

(12) “Notice of electronic receipt” will be provided in two forms: (a) An on screen notice of receipt once the electronic transmission of the document is complete; and (b) an e-mail sent to the registered user's e-mail address of record. The notice of electronic receipt only conveys that the document is physically present at the Commission and does not mean that the document has been accepted by the Secretary for filing in EDIS.

(13) “PDF” means portable document format.

B. Registration as an EFP User and Assignment of Passwords

(1) To file electronically, you must first become a “registered user” of EDIS. To register, a user must fill out the EDIS user registration form online at the EDIS Web site. Anonymous user access is not supported by EDIS to either file or search for a document. The online registration process will require identification of the user's name, firm affiliation, address, telephone number and e-mail address of record. Users must have and maintain a working e-mail address to be a registered user.

(a) Users must select their applicable association in the Firm/Organization drop-down field. If a user's affiliation in the Firm/Organization field is not listed, select `Not Listed' if you intend on filing a document. You will be presented with an electronic pop-up form to provide the relevant information to have your firm included in the list. The new firm will be added by USITC staff after your registration has been submitted and your account will be updated to reflect your association to the new firm.

(b) All users must designate a user ID and password, and select and answer two unique security questions on the registration form as forms of authentication for accessing EDIS. Registered users may access EDIS for electronic filing without any additional approval from the Secretary.

(c) The user's registration information is used when filing a document to populate the document submission fields of `Filed By' and `Firm/Organization.'

(2) Every registered user shall be responsible for keeping his/her registration information current.

(a) Users who leave their registered firm or organization must re-register with a new user ID and password to file documents so that an accurate filing history can be maintained.

(b) Changes to user information other than the Firm/Organization should be requested by contacting the Commission's EDIS Helpdesk at 202-205-2000 or via e-mail at EDIS3Help@usitc.gov.

(c) Password and security questions can only be changed or re-set by the registered user when logged in to EDIS.

(3) A registered user may authorize another person to file a document with the Commission using the user ID and password of the registered user; however, the registered user assumes responsibility for any authorized use of his/her user ID and password. The registered user and all persons who participate in the preparation of or are signatories to a document shall retain responsibility with respect to any duties and obligations pertaining to the document under the rules. A registered user must comply with applicable limitations on disclosure of confidential business information (“CBI”) and business proprietary information (“BPI”) pursuant to 19 CFR 201.6, 206.17, 207.7, and 210.5. As provided in paragraph II(J)(2), a document filed using a registered user's user ID and password will be deemed signed by that registered user.

(4) Upon learning of the potential compromise of the confidentiality of his/her password, a registered user shall immediately change the password via the EDIS Web site. No later than the next business day, the registered user must also notify the Secretary of the perceived compromise and the period of compromise.

(5) A registered user who has provided his/her password to an employee of the registered user's firm, such as a paralegal, legal assistant, or secretary, must change the password upon the employee's departure from the firm. Unless there is a perceived breach of confidentiality, in such instances, no notification to the Secretary is needed.

(6) You may not electronically file documents with the Commission unless you have registered with the Commission pursuant to the procedures set forth in paragraph II(B)(1) above.

C. Filing Requirements

(1) Unless otherwise specified in this Handbook, in the Commission's rules, or in other instructions from the Secretary, you must file all documents electronically through EDIS using EFP.

(2) Specific instructions are set out below for certain types of documents.

(a) Import Injury: Antidumping and countervailing duty investigations and reviews under Title VII of the Tariff Act of 1930; safeguard and market disruption investigations under sections 204, 406, 421, and 422 of the Trade Act of 1974; investigations under section 302 of the NAFTA implementation Act of 1994; investigations under section 22 of the Agricultural Adjustment Act.

(i) You must file a petition, request, or motion under 19 CFR 206.2 or 207.10 in paper form. An original and eight (8) true paper copies must to be filed. You must file all exhibits, appendices, and attachments in PDF format on CD-ROM, DVD, or other form of portable electronic media approved by the Secretary.

(ii) You must file briefs, statements, responses, and comments provided for under 19 CFR 201.12, 201.14, 206.8, 207.15, 207.23, 207.25, 207.28, 207.30, 207.61, 207.62, 207.65, 207.67, 207.68 electronically, and submit eight (8) true paper copies on the same business day.

(iii) If you file supplementary material or witness testimony provided for under 19 CFR 201.13, 207.15, or 207.24, you must submit eight (8) true paper copies at the hearing or the conference.

(iv) If you request confidential treatment of a document, you must file a nonconfidential version electronically and submit four (4) true paper copies on the same business day.

(v) You must file applications provided for under 19 CFR 206.17 or 207.7 electronically; no paper copies will be required.

(b) Intellectual Property-Based Import Investigations: Investigations under section 337 of the Tariff Act of 1930.

(i) You must file a complaint, petition, request, or motion for temporary relief under 19 CFR 210.8, 210.75, 210.76, or 210.79 in paper form. An original and eight (8) true paper copies must be filed. You must file all exhibits, appendices, and attachments in PDF format on CD-ROM, DVD, or other form of portable electronic media approved by the Secretary.

(ii) You must file the following documents electronically, and submit true paper copies by 12:00 noon eastern time the next business day. If the matter is before the administrative law judge, you must submit two (2) true paper copies of a written submission. If the matter is before the Commission, you must submit eight (8) true paper copies.

1. Responses to a complaint under 19 CFR 210.13;

2. Briefs under 19 CFR 210.40 or 210.45;

3. Comments and responses to comments under 19 CFR 210.50;

4. Compliance reports under 19 CFR 210.71;

5. Motions (other than those under C(2)(b)(i) above) and responses or replies thereto under 19 CFR 210.12, 210.14, 210.15, 210.16, 210.17, 210.18, 210.19, 210.20, 210.21, 210.24, 210.25, 210.26, 210.33, 210.34, 210.52, 210.53, 210.57, or 210.59;

6. Petitions and replies thereto under 19 CFR 210.43, 210.46, or 210.47;

7. Pre-hearing statements and briefs under 19 CFR 210.35 or 210.36;

8. Proposed fact findings and conclusions of law and responses thereto under 19 CFR 210.40;

9. Submissions pursuant to orders of an administrative law judge.

(iii) You must file all other written submissions (those documents that not listed in sections C(2)(b)(i) and (ii) above, including but not limited to discovery statements, notices of appearance, exhibit objections, notices of prior art, notices of withdrawal, witness lists, and expert reports) electronically.

(c) You must file documents in other proceedings, including investigations under section 332 of the Tariff Act of 1930, electronically, and submit eight (8) true paper copies by 12:00 noon eastern time on the next business day; except that, if you file supplementary material or witness testimony provided for under 19 CFR 201.13, you must file eight (8) true paper copies with the Secretary at the hearing.

(3) The Secretary may provide for exceptions and modifications to the filing requirements set out in the rules and the Handbook. Certain exceptions are described below.

(a) You may request authorization from the Secretary to file a document or documents in a particular form in a proceeding by electronic mail to secretary@usitc.gov, by facsimile to 202-205-2104 or by telephone to 202-205-2000. The Secretary may grant your request if you provide a reasonable explanation as to why you cannot file in the required form, such as a lack of adequate access to computer or internet resources. If the request is granted, the Secretary will promptly inform you and provide instructions on how to file your documents. Your documents will be accepted for filing only if they comply with the Secretary's instructions, the rules, and the Handbook. If the request for waiver is granted, the submitter should in a cover letter cite the reason(s) for the request and indicate that the Secretary approved the request. Service of the document must comply with 19 CFR 201.16.

(b) The Secretary, on his or her own motion, will allow the filing of certain documents in paper form. Such documents may include, but are not limited to, letters submitted by Members of Congress, officials of other U.S. agencies, state and local government officials, and foreign government officials who do not represent an interested party in a proceeding before the Commission.

(4) If the EDIS Web site is unable to accept electronic filings continuously or intermittently over the course of any period of time greater than one hour after 12 noon Washington, DC local time, on a business day, the Secretary shall deem the EDIS Web site to be subject to a technical failure on that day. If you are unable to file a document electronically by the deadline imposed by the Commission because the EDIS Web site is experiencing a technical failure, you should immediately report the technical failure to the Secretary and request authorization to file your document after the deadline. The Secretary will promptly grant or deny the authorization. When you file your document subject to the authorization, you should also file an unsworn declaration provided for in 28 U.S.C. 1746 stating (i) the dates and times of the attempted filing (ii) the fact that the Web site's technical failure prevented you from making a timely filing, (iii) your contacts with the Secretary to report the Web site's technical failure, and (iv) the Secretary's granting of authorization for you to file after the deadline. If you are making a late filing for reasons unrelated to the operating status of the EDIS Web site, you should follow the normal procedures in the rules for requests for late filings.

(5) If you discover that the version of the document available for viewing on EDIS does not conform to the document that you transmitted, please immediately contact the Office of Docket Services, 202-205-1802 for further assistance.

D. Where Documents Are To be Filed

(1) To file a document electronically, you should visit the EDIS Web site at https://edis.usitc.gov and follow the instructions for submitting a document electronically to EDIS. The instructions will include the applicable hardware and software requirements for electronic filing.

(2) To file or submit a document in paper form or on portable electronic media, you should file it with the Secretary, U.S. International Trade Commission, 500 E Street, SW., Washington, DC 20436, room 112A.

E. Notice of Electronic Receipt

(1) Upon completion of the electronic transmission of your document and upload at the Commission, EDIS will generate and send an e-mail notice of electronic receipt of an electronic document to the official e-mail address associated with your user ID. The notice of electronic receipt contains information from EDIS in order to facilitate tracking. A notice of electronic receipt does not constitute acknowledgment by the Commission that the document has been properly filed pursuant to the rules or this Handbook. Moreover, such notification does not constitute service of the document on the parties to an investigation.

(2) If you do not receive a notice of electronic receipt following transmission of a document for filing, please call 202-205-3347, the EDIS Helpline, to confirm that your document was in fact not properly transmitted. If your transmission failed, you must attempt to (i) re-transmit the document electronically until such a notice is received, or (ii) seek authorization to file late or in paper form, in accordance with the provisions of section II(C) above.

(3) If the document is electronically received by EDIS during business hours, then the effective filing date and time of the document is the date and time that the document has been electronically received by EDIS. If the document is electronically received by EDIS outside of business hours and is accepted for filing, the effective filing date and time of the document will be the next business day.

(4) Subsequent to the notice of electronic receipt, the Secretary will send you a second notice (notice of validation of document) notifying you that the document has undergone initial review and, if public, is now available for viewing on the EDIS Web site.

F. Deadline for Electronic Filing of Documents

(1) When the Commission has imposed a deadline on the filing of a document, the Secretary will consider the document timely filed electronically only if the user has “clicked” the “Confirm” button on the final confirmation page for electronic submission by 5:15:59 p.m., eastern time, on the day that the document is due to be filed, and received e-mail notification of receipt.

(2) If the filing is submitted prior to a Commission deadline or does not have a particular submission deadline date, you may electronically transmit a document to EDIS at any time of the day (i.e., twenty-four hours/day) and on any day of the week (including weekends and holidays). If the filing is submitted after the close of business, the filing will be deemed officially received on the next business day. You should preserve the notice of electronic receipt of the document, which states the time and date that EDIS received the document, for your records.

G. Size of Electronic Transmission

The size of an electronic transmission as a whole is not limited by the capability of EDIS. There is no limit to the number of PDF files which can be submitted as attachments so long as no one attached file exceeds 25 megabytes in size. If a filing includes an attachment that exceeds the foregoing size limitation and cannot be broken down into multiple PDF files, the Secretary may authorize filing in paper form or on CD-ROM, DVD, or other portable media approved by the Secretary, pursuant to section II(C) above. All page limits set forth in the rules and the Handbook shall remain in effect for purposes of electronic filing.

H. Format of Documents

(1) Documents filed electronically pursuant to this Handbook must be submitted in PDF. Please be aware that some special characters used in certain word processing applications may not convert easily to PDF. The conversion process to PDF may affect pagination as well as the conversion of special characters. Filers are responsible for the accuracy of the documents submitted.

The Commission prefers the submission, when practicable, of documents converted to PDF from word processed text over that of documents converted to PDF from images. Documents converted to PDF from word processed text typically have far fewer megabytes than PDF documents that have been created from images. Additionally, searches of documents converted to PDF from word processed text are more accurate within EDIS than on PDF documents created from images. Additionally, although EDIS will create a searchable text version of PDF documents created from images through an optical character recognition process, such a document may contain recognition errors.

CAUTION: Text based PDF files may permit others to retrieve “masked” or “whited out” BPI or CBI. Please remove all “masked” or “whited out” BPI or CBI before filing any electronic document with the Commission.

(2) Each page of an electronically filed document must be in letter sized format (i.e., 8.5 inches by 11 inches when printed out by the Secretary).

(3) Documents filed electronically must comply with both the page limits set forth in the §§ 207.15, 207.25, 207.28, 207.30, 207.62, 207.67, and 207.68 of the rules and the size limit set forth in section G of this handbook.

(4) When preparing PDF documents for filing, you must comply with the following requirements. PDF documents that do not comply with these requirements will be rejected by EDIS during the submission process.

(a) PDF version must be Version 1.3 or greater. (Note: Use of Adobe Acrobat is not required, but if it is used, it must be Acrobat 4 or greater. This is because only Adobe Acrobat 4 or later produces PDF version 1.3.)

(b) Documents must not have Type 3 fonts. Use of Type 1 fonts is recommended.

(c) You must use only the Roman and Cyrillic alphabets in PDF format. Documents in other foreign language alphabets must be scanned. Special characters must be checked on conversion to ensure that they were not changed during the distilling process.

(d) Do not attach any embedded files to your PDF document for electronic filing. This includes all comments (note tool, pencil tool, highlights tool, digital signature tool, embedded files, embedded sounds or other multimedia); forms actions; JavaScript actions; external cross references, web links and image alternates.

(e) Document security setting must have a PDF file security setting of “none.”

(5) Document attachments shall follow these guidelines:

(a) Files must be attached in the proper logical sequence (i.e., motion should be followed by the exhibits).

(b) Attachments must conform to the following naming convention:

(i) All attachments relating to a single filing must have the same root name, which would be the “document name” given by the filer.

(ii) Each attachment shall constitute a separate PDF file and must be numbered sequentially in the order that it appears within the document, followed by the total number of attachments (e.g., A Post-hearing Brief Part 1 of 13). The filer shall also add descriptive language identifying the PDF file attachments (e.g. Post-hearing Brief Part 1—Ex. 1-10).

(c) Use logical break points in creating attachments. Avoid breaking attachments in the middle of a section (e.g., main textual document, exhibit, or appendix) of the filing. An entire attachment(s) shall be contained in a single PDF file if possible.

(d) A single document of less than the file size limit should not be broken into multiple attachments.

(e) The main textual document (e.g., brief, petition, motion) should be contained in a separate attachment from material appended to the filing (e.g., exhibits), unless the entire document is less than the file size limit. Cover letters shall not be filed separately from the main textual document.

(f) Material appended to the main textual document (e.g., exhibits, appendices) shall be combined into a single attachment, as long as the entire attachment does not exceed the file size limit.

(6) When redacting BPI or CBI from a document, you should use redaction methodology that does not change the pagination of the public version, when compared with the BPI or CBI version.

I. Use of Electronic Media

(1) Documents such as exhibits to complaints or petitions must be filed on CD-ROM, DVD, or other portable electronic media approved by the Secretary. Other documents, such as briefs and motions, may be voluminous and because of the file size and network speed e-filing of these documents may be difficult. Pursuant to section II(C) above, the Secretary may authorize you to file a document on portable electronic media. Each document submitted on portable electronic media must conform to the same formatting rules as those submitted electronically. Please refer to the EDIS 3 User Guide for Submitting Electronic Media for complete instructions on the use of electronic media.

(2) At this time, CD-ROM and DVD are the only accepted media. Devices that would require drivers to attach to a USITC workstation to be read will not be permitted unless approved by the Secretary. Submitted media will be retained by the USITC and only available for return to the submitter if an error is found prohibiting acceptance into EDIS.

J. Signatures

(1) A document filed with the Commission electronically shall be deemed to be signed by the registered user when the document identifies the user as a signatory and the filing complies with paragraphs (2) and (3) below. When the document is filed with the Commission in accordance with any of these methods, the filing shall bind the signatory as if the document were physically signed and filed, and shall function as the registered user's signature whether for the purpose of complying with the Commission's rules, to attest to the truthfulness of an affidavit or declaration, or for any other purpose.

(2) In the case of a signatory who is a registered user as described in paragraph II(B)(1), such document shall be deemed signed provided that such document is filed using the user ID and password of the signatory and contains the physical signature of the registered user using an optical scan format or a typed “electronic signature,” e.g., “/s/Jane Doe.”

(3) In the case of a document to be signed by two or more persons, the following procedure shall be used:

(a) The filing person shall initially confirm that the content of the document is acceptable to all persons required to sign the document. The filing person then shall attest that original signatures have been obtained from each of the other signatories on a paper copy of the document. If the filing person complies with the foregoing requirements, the Commission shall presume that the filing person has the authority to file the document on behalf of all other persons required to sign such document.

(b) The filing person shall then file the document electronically, indicating the original signatures that have been obtained, e.g., “/s/Jane Doe,” “/s/John Doe,” etc., or by providing a signature page of the actual physical signatures using an optical scan format.

(c) The filing person must retain the hard copy of the document containing the original signatures until the earlier of (i) the Commission deadline for the destruction of APO materials, if applicable; or (ii) one year after the conclusion of the investigation and resulting appeals.

(d) For a document that requires a signature in the presence of a notary public (e.g., affidavits), the document instead should contain an unsworn declaration clause to be signed by the signatory under penalty of perjury. The language for unsworn declarations under penalty of perjury is provided in 28 U.S.C. 1746.

K. Limitation on Service of Electronic Documents Between the Parties

Persons who have filed documents electronically with the Commission must comply with the rules in effecting service of the electronically filed document on parties in accordance with 19 CFR 201.16. All electronically filed documents must be accompanied by a certificate of service. Documents filed electronically in all pending matters before the Commission, except for proceedings under section 337 of the Tariff Act of 1930, are not to be served electronically on other parties without the prior agreement of the Secretary. In the case of proceedings before an administrative law judge under section 337 of the Tariff Act of 1930, the presiding administrative law judge shall determine whether electronic service of documents as between the parties will be permitted in that proceeding. Parties may only effectuate electronic service on recipients who have provided written consent thereto to the Secretary or the presiding administrative law judge.

L. Copyright and Other Proprietary Rights

(1) The EDIS Web site shall bear a prominent notice as follows: “The contents of each filing in EDIS may be subject to copyright and other proprietary rights (with the exception of the notices, orders, and opinions of the ITC). It is the user's obligation to determine and satisfy copyright or other use restrictions when publishing or otherwise distributing material found in EDIS. Transmission or reproduction of protected items beyond that allowed by fair use requires the written permission of the copyright owners. Users must make their own assessments of rights in light of their intended use.”

(2) By filing any material with the Commission electronically, a person shall be deemed to consent to all uses of such materials by all parties to the action solely in connection with and for the purposes of the action, including the electronic filing in the action (by a party who did not originally file or produce such materials) of portions, excerpts, quotations, or selected exhibits from such filed materials as part of motion papers, pleadings or other filings with the Commission.

(3) Any dispute that arises among persons regarding the use of materials subject to copyright and other proprietary rights must be resolved among the persons themselves, without the Commission's involvement.

M. Official Record of Commission Proceedings

The electronic version of any document filed by a party in a Commission proceeding will be considered the “official version” for purposes of compiling the record in a Commission proceeding. Materials referenced by hyperlink in an electronic document and relied on by the submitter will not be considered part of the document or of the record in a Commission proceeding unless the portions of the materials relied on are included as an attachment to the document. The filer, however, must take into consideration section II(L) when reproducing such materials. Please note that any hyperlinked material contained in the electronic version of a document must be printed in the corresponding paper copy, in conformance with all applicable page limits under the rules.

III. Duration

A. This Handbook is effective as of the date specified in a notice published in the Federal Register. These filing procedures shall remain in effect until superseded or rescinded.

B. The Secretary shall amend this Handbook as necessary.

Authority: 19 CFR 201.8(d).

Appendix I to Handbook on Filing Procedures: Matrix of Instructions

The following matrix summarizes instructions for certain documents commonly submitted to the Commission. If there is a discrepancy with the rules, the rules control.

Document type | File through EDIS on day 1? | File on CD or DVD on day 1? | File in paper on day 1? (No. of copies) | File in paper noon day 2? (No. of copies)
Import injury petition | No | No | Yes, 8 | No
Exhibits and appendices to import injury petition | No | Yes | No | No
Import injury briefs, statements, comments | Yes | No | Yes, 8 | No
Requests under 201.12 and 201.14(b) | Yes | No | Yes, 8 | No
Applications under 206.17 and 207.7 | Yes | No | No | No
Hearing and conference testimony and supplementary material | No | No | Yes, 8 | No
Section 337 complaint, motion for temporary relief | No | No | Yes, 8 | No
Exhibits and appendices to section 337 complaint, motion for temporary relief | No | Yes | No | No
Section 337 documents such as briefs and petitions, if matter is before ALJ | Yes | No | No | Yes, 2
Section 337 documents such as briefs and petitions, if matter is before Commission | Yes | No | No | Yes, 8
Other section 337 submissions | Yes | No | No | No
Section 332, 131, 1205 submissions | Yes | No | No | Yes, 8
Nonconfidential version of confidential document | Yes | No | Yes, 4 | No
Submissions granted waiver by Secretary | No | TBD | TBD | No

Notes: 1. “Day 1” refers to the date on which a submission is due; in the case of a petition or complaint, it is the date on which the document is first submitted.

2. “Day 2” refers to the next business day after Day 1; a submission on Day 2 is due by noon.

3. “TBD” means “to be determined” by the Secretary, who will issue appropriate instructions.

Issued: June 24, 2011.
By Order of the Commission.
James R. Holbein,
Secretary to the Commission.

[FR Doc. 2011-16359 Filed 7-5-11; 8:45 am]

BILLING CODE 7020-02-P